NATIONAL CREDIT UNION ADMINISTRATION

Sunshine Act; Notice of Agency Meeting

Time and Date: 10 a.m., Thursday, June 18, 2009.

Place: Board Room, 7th Floor, Room 7047, 1775 Duke Street, Alexandria, VA 22314-3428.

Status: Open.

Matters To Be Considered

1. Interim Final Rule—Section 701.21(f) of NCUA's Rules and Regulations, Exception to the Maturity Limit on Second Mortgages.

2. Final Rule —Section 701.26 of NCUA's Rules and Regulations, Operating Fees.

3. Temporary Corporate Credit Union Stabilization Fund.

4. Insurance Fund Report.

Recess: 11 a.m.

Time and Date: 11:15 a.m., Thursday, June 18, 2009.

Place: Board Room, 7th Floor, Room 7047, 1775 Duke Street, Alexandria, VA 22314-3428.

Status: Closed.

Matters To Be Considered

1. Insurance Appeal. Closed pursuant to Exemption (6).

2. Consideration of Supervisory Activities (3). Closed pursuant to Exemptions (8) and (9)(A)(ii) and 9(B).

3. Personnel. Closed pursuant to Exemptions (2) and (6).

FOR FURTHER INFORMATION CONTACT: Mary Rupp, Secretary of the Board, Telephone: 703-518-6304.

Mary Rupp,
Board Secretary.

[FR Doc. E9-14129 Filed 6-11-09; 4:15 pm]

BILLING CODE 7535-01-P